DEPARTMENT OF TRANSPORTATION

Federal Aviation Administration

14 CFR Part 39

[Docket No. FAA-2021-0334; Project Identifier MCAI-2020-01662-T; Amendment 39-21686; AD 2021-17-03]

RIN 2120-AA64

Airworthiness Directives; Airbus SAS Airplanes

AGENCY: Federal Aviation Administration (FAA), DOT.

ACTION: Final rule; correction.

SUMMARY: The FAA is correcting an airworthiness directive (AD) that was published in the Federal Register. That AD applies to certain Airbus SAS Model A318-111, -112, and -122 airplanes; Model A319-111, -112, -113, -114, -115, -131, -132, and -133 airplanes; and Model A320-211, -212, -214, -231, -232, and -233 airplanes. As published, the AD number specified in the preamble and regulatory text is incorrect. This document corrects this error. In all other respects, the original document remains the same.

DATES: This correction is effective October 5, 2021.

The effective date of AD 2021-17-03 remains October 5, 2021.

The Director of the Federal Register approved the incorporation by reference of a certain publication listed in this AD as of October 5, 2021 (86 FR 48485, August 31, 2021).

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket at https://www.regulations.gov by searching for and locating Docket No. FAA-2021-0334.

Examining the AD Docket

You may examine the AD docket at https://www.regulations.gov under Docket No. FAA-2021-0334; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION: AD 2021-17-03, Amendment 39-21686 (86 FR 48485, August 31, 2021) (AD 2021-17-03), requires repetitive inspections for cracking at the left- (LH) and right-hand (RH) sides of the fuselage skin at certain frames, and repair if necessary, as specified in European Union Aviation Safety Agency (EASA) AD 2020-0280, dated December 14, 2020 (EASA AD 2020-0280). That AD applies to certain Airbus SAS Model A318-111, -112, and -122 airplanes; Model A319-111, -112, -113, -114, -115, -131, -132, and -133 airplanes; and Model A320-211, -212, -214, -231, -232, and -233 airplanes.

Need for the Correction

As the AD was published, the AD number specified in the preamble and regulatory text is incorrect. AD 2021-17-03 incorrectly identified the AD number as 2017-17-03. The correct AD number for this AD is 2021-17-03.

Related Service Information Under 1 CFR Part 51

EASA AD 2020-0280 describes procedures for doing repetitive external general visual inspections or special detailed inspections (i.e., phased array ultrasonic technology inspections of the external skin, or detailed inspections for primer/paint cracks and high frequency eddy current inspections of the internal skin) and repair for cracking at the LH and RH sides of the fuselage skin, above stringer 6 from FR35 to FR47. This material is reasonably available because the interested parties have access to it through their normal course of business or by the means identified in the ADDRESSES section.

Correction of Publication

This document corrects an error in two locations and correctly adds the AD as an amendment to 14 CFR 39.13. Although no other part of the preamble or regulatory information has been corrected, the FAA is publishing the entire rule in the Federal Register.

The effective date of this AD remains October 5, 2021.

Since this action only corrects the AD number, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA corrects § 39.13 by correcting the airworthiness directive published at 86 FR 48485 (August 31, 2021) to read:

2021-17-03 Airbus SAS: Amendment 39-21686; Docket No. FAA-2021-0334; Project Identifier MCAI-2020-01662-T.

(a) Effective Date

This airworthiness directive (AD) is effective October 5, 2021.

(b) Affected ADs

This AD replaces AD 2017-12-13, Amendment 39-18928 (82 FR 27983, June 20, 2017).

(c) Applicability

This AD applies to Airbus SAS airplanes specified in paragraphs (c)(1) through (3) of this AD, certificated in any category, as identified in European Union Aviation Safety Agency (EASA) AD 2020-0280, dated December 14, 2020 (EASA AD 2020-0280).

(1) Model A318-111, -112, and -122 airplanes.

(2) Model A319-111, -112, -113, -114, -115, -131, -132, and -133 airplanes.

(3) Model A320-211, -212, -214, -231, -232, and -233 airplanes.

(d) Subject

Air Transport Association (ATA) of America Code 53, Fuselage.

(e) Reason

This AD was prompted by a report of a crack found during an inspection of the pocket radius of the fuselage frame, and a determination that similar cracks may develop in nearby areas of the fuselage frame and that additional airplanes are subject to the unsafe condition. The FAA is issuing this AD to address cracking of the pocket radius, which could lead to in-flight decompression of the airplane and possible injury to the passengers.

(f) Compliance

Comply with this AD within the compliance times specified, unless already done.

(g) Requirements

Except as specified in paragraph (h) of this AD: Comply with all required actions and compliance times specified in, and in accordance with, EASA AD 2020-0280.

(h) Exceptions to EASA AD 2020-0280

(1) Where EASA AD 2020-0280 refers to its effective date, this AD requires using the effective date of this AD.

(2) Where paragraph (9) of EASA AD 2020-0280 specifies if any crack is found during any inspection to “contact Airbus for approved repair instructions and accomplish those instructions accordingly,” this AD requires if any cracking is found, the cracking must be repaired before further flight using a method approved by the Manager, Large Aircraft Section, International Validation Branch, FAA; or EASA; or Airbus SAS's EASA Design Organization Approval (DOA). If approved by the DOA, the approval must include the DOA-authorized signature.

(3) Where paragraph (10) of EASA AD 2020-0280 specifies credit for actions “in accordance with the instructions of an Airbus Repair Design Approval Sheet (RDAS), [and to] accomplish the next inspection of each repaired area in accordance with the instructions of, and within the compliance time as specified in, the applicable RDAS,” this AD requires using “in accordance with repair instructions approved, and within the compliance time specified in the repair approval, using a method approved by the Manager, Large Aircraft Section, International Validation Branch, FAA; or EASA; or Airbus SAS's EASA DOA. If approved by the DOA, the approval must include the DOA-authorized signature.”

(4) Where paragraph (11) of EASA AD 2020-0280 specifies terminating actions apply only if specified “in the Airbus RDAS instructions for a repaired aeroplane,” this AD requires using “in repair instructions approved using a method approved by the Manager, Large Aircraft Section, International Validation Branch, FAA; or EASA; or Airbus SAS's EASA DOA. If approved by the DOA, the approval must include the DOA-authorized signature.”

(5) The “Remarks” section of EASA AD 2020-0280 does not apply to this AD.

(i) No Reporting Requirement

Although the service information referenced in EASA AD 2020-0280 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA DOA. If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, Large Aircraft Section, International Validation Branch, FAA, 2200 South 216th St., Des Moines, WA 98198; telephone and fax 206-231-3223; email Sanjay.Ralhan@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 5, 2021 (86 FR 48485, August 31, 2021).

(i) European Union Aviation Safety Agency (EASA) AD 2020-0280, dated December 14, 2020.

(ii) [Reserved]

(4) For EASA AD 2020-0280, contact EASA, Konrad-Adenauer-Ufer 3, 50668 Cologne, Germany; telephone +49 221 8999 000; email ADs@easa.europa.eu; internet www.easa.europa.eu. You may find this EASA AD on the EASA website at https://ad.easa.europa.eu.

(5) You may view this service information at the FAA, Airworthiness Products Section, Operational Safety Branch, 2200 South 216th St., Des Moines, WA. For information on the availability of this material at the FAA, call 206-231-3195.

(6) You may view this service information that is incorporated by reference at the National Archives and Records Administration (NARA). For information on the availability of this material at NARA, email fr.inspection@nara.gov, or go to https://www.archives.gov/federal-register/cfr/ibr-locations.html.

Issued on September 1, 2021.
Lance T. Gant,
Director, Compliance & Airworthiness Division, Aircraft Certification Service.

[FR Doc. 2021-19245 Filed 9-1-21; 4:15 pm]

BILLING CODE 4910-13-P